DEPARTMENT OF DEFENSE

Office of the Secretary

Meeting of the Defense Policy Board

AGENCY: Defense Policy Board, DoD

ACTION: Notice.

SUMMARY: The Defense Policy Board will meet in closed session on December 13, 2010, from 0800 hrs until 1800 hrs and on December 14, 2010, from 0730 hrs until 1000 hrs at the Pentagon.

The purpose of the meeting is to provide the Secretary of Defense, Deputy Secretary of Defense and Under Secretary of Defense for Policy with independent, informed advice on major matters of defense policy. The Board will hold classified discussions on national security matters.

In accordance with Section 10(d) of the Federal Advisory Committee Act, Public Law 92-463, as amended [5 U.S.C. App II (1982)], it has been determined that this meeting concerns matters listed in 5 U.S.C. 552B (c)(1)(1982), and that accordingly this meeting will be closed to the public.

FOR FURTHER INFORMATION CONTACT: Ms. Ann Hansen, 703-571-9232.

Dated: November 17, 2010.
Morgan F. Park,
Alternate OSD Federal Register Liaison Officer.

[FR Doc. 2010-29452 Filed 11-22-10; 8:45 am]

BILLING CODE 5001-06-P